FEDERAL EMERGENCY MANAGEMENT AGENCY

44 CFR Part 67

[Docket No. FEMA-D-7522]

Proposed Flood Elevation Determinations

AGENCY: Federal Emergency Management Agency, FEMA.

ACTION: Proposed rule.

SUMMARY: Technical information or comments are requested on the proposed base (1% annual chance) flood elevations and proposed base flood elevation modifications for the communities listed below. The base flood elevations are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed base flood elevations for each community are available for inspection at the office of the Chief Executive Officer of each community. The respective addresses are listed in the following table.

FOR FURTHER INFORMATION CONTACT: Matthew B. Miller, P.E., Chief, Hazards Study Branch, Federal Insurance and Mitigation Administration, Federal Emergency Management Agency, 500 C Street SW., Washington, DC 20472, (202) 646-3461, or (email) matt.miller@fema.gov.

SUPPLEMENTARY INFORMATION: The Federal Emergency Management Agency (FEMA or Agency) proposes to make determinations of base flood elevations and modified base flood elevations for each community listed below, in accordance with section 110 of the Flood Disaster Protection Act of 1973, 42 U.S.C. 4104, and 44 CFR 67.4(a).

These proposed base flood and modified base flood elevations, together with the floodplain management criteria required by 44 CFR 60.3, are the minimum that are required. They should not be construed to mean that the community must change any existing ordinances that are more stringent in their floodplain management requirements. The community may at any time enact stricter requirements of its own, or pursuant to policies established by other Federal, state or regional entities. These proposed elevations are used to meet the floodplain management requirements of the NFIP and are also used to calculate the appropriate flood insurance premium rates for new buildings built after these elevations are made final, and for the contents in these buildings.

National Environmental Policy Act

This proposed rule is categorically excluded from the requirements of 44 CFR Part 10, Environmental Consideration. No environmental impact assessment has been prepared.

Regulatory Flexibility Act

The Acting Executive Associate Director, Mitigation Directorate, certifies that this proposed rule is exempt from the requirements of the Regulatory Flexibility Act because proposed or modified base flood elevations are required by the Flood Disaster Protection Act of 1973, 42 U.S.C. 4104, and are required to establish and maintain community eligibility in the NFIP. As a result, a regulatory flexibility analysis has not been prepared.

Regulatory Classification

This proposed rule is not a significant regulatory action under the criteria of Section 3(f) of Executive Order 12866 of September 30, 1993, Regulatory Planning and Review, 58 FR 51735.

Executive Order 12612, Federalism

This proposed rule involves no policies that have federalism implications under Executive Order 12612, Federalism, dated October 26, 1987.

Executive Order 12778, Civil Justice Reform

This proposed rule meets the applicable standards of Section 2(b)(2) of Executive Order 12778.

List of Subjects in 44 CFR Part 67

Administrative practice and procedure, flood insurance, reporting and recordkeeping requirements.

Accordingly, 44 CFR Part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location | # Depth in feet above ground. *Elevation in feet (NGVD): Existing | # Depth in feet above ground. *Elevation in feet (NGVD): Modified
Maine | Orrington (Town), Penobscot County | Sedgeunkedunk Steam | A point approximately 100 feet downstream of Orrington corporate limits. | None | *42
|  |  | A point approximately 420 feet upstream of Fields Pond Road bridge | None | *102
|  | Penobscot River | At downstream corporate limits | None | *11
|  |  | At upstream corporate limits | None | *16
|  | Brewer Lake | Entire shoreline within community | None | *112
Maps available for inspection at the Orrington Town Hall, 29 Center Drive, Orrington, Maine.
Send comments to Mr. Dexter Johnson, Manager of the Town of Orrington, P.O. Box 159, Orrington, Maine 04474.
New Jersey | Ocean (Township), Monmouth County | Poplar Brook | Upstream side of Norwood Avenue | *15 | *18
|  |  | At a point approximately 0.47 mile upstream of Willow Drive | *53 | *51
|  | Hog Swamp Brook | At a point approximately 130 feet downstream of Monmouth Road | *12 | *11
|  |  | At a point approximately 0.26 mile upstream of Route 18 | *64 | 65
Maps available for inspection at the Ocean Township Office, 399 Monmouth Road, Oakhurst, New Jersey.
Send comments to Mr. David Kochel, Ocean Township Manager, 399 Monmouth Road, Oakhurst, New Jersey 07755.
Tennessee | Gallatin (City), Sumner County | Cumberland River | Approximately 1 mile downstream of the Gallatin Stream Plant gage | *452 | *453
|  |  | Approximately 3.0 miles upstream of the Gallatin Stream Plant gage | *452 | *453
|  | Albright Creek | Approximately 50 feet downstream of Willmore Road | *452 | *454
|  |  | Just downstream of Willmore Road | *452 | 454
Maps available for inspection at the Gallatin City Hall, 132 West Main Street, Gallatin, Tennessee.
Send comments to The Honorable Don Wright, Mayor of the City of Gallatin, 132 West Main Street, Gallatin, Tennessee 37066.
Tennessee | Hendersonville (City), Sumner County | Drakes Creek | Approximately 0.4 mile upstream of U.S. Route 31E | *451 | *452
|  |  | Approximately 1,200 feet upstream of Long Hollow Pike | None | *518
|  | Unnamed Tributary 5 | Approximately 50 feet upstream of Buchanan Circle | *506 | *507
|  |  | Approximately 0.4 mile upstream of Buchanan Circle | None | *523
|  | Station Camp Creek | Approximately 1,430 feet upstream of Station Camp Creek Road | None | *456
|  |  | Approximately 1,060 feet upstream of Long Hollow Pike | None | *490
|  | Cumberland River | At the downstream county boundary | *430 | *432
|  |  | At the downstream side of Old Hickory Dam | 430 | *432
|  | Center Point Branch | At the confluence with Mansker Creek | *430 | *432
|  |  | Approximately 1,750 feet upstream of Hickory Lane | None | *437
|  | Madison Creek | At the confluence with Mansker Creek | *430 | *432
|  |  | Approximately 250 feet downstream of Long Hollow Pike | 444 | *443
|  | Mansker Creek | At the confluence with Cumberland River | *430 | *432
|  |  | At the confluence of Madison Creek | *430 | *432
Maps available for inspection at the Hendersonville City Hall, One Executive Park Drive, Hendersonville, Tennessee.
Send comments to The Honorable Jim Fuqua, Mayor of the City of Hendersonville, One Executive Park Drive, Hendersonville, Tennessee 37075.
Tennessee | Millersville (City), Sumner County | Slaters Creek | Just upstream of Long Drive | *470 | *471
|  |  | Approximately 1,140 feet upstream of the most upstream crossing of Interstate 65 | None | *562
|  | East Fork Slaters Creek | At the confluence with Slaters Creek | *503 | *506
|  |  | Approximately 0.81 mile upstream of Pole Hill Road | *564 | 563
|  | Mansker Creek | Approximately 1,450 feet upstream of the most upstream crossing of U.S. Route 41 | *486 | *485
|  |  | Approximately 1.1 miles upstream of Old Shiloh Road | None | *584
Maps available for inspection at the Millersville City Hall, 1246 Louisville Highway, Millersville, Tennessee.
Send comments to The Honorable Robert Mobley, Mayor of the City of Millersville, 1246 Louisville Highway, Millersville, Tennessee 37072.
Tennessee | Metropolitan Government of Nashville and Davidson County | Mansker Creek | Upstream side of U.S. Route 41 | *455 | *452
|  |  | At a point approximately 1.14 miles upstream of Old Shiloh Road | None | *584
|  | Lumsley Fork | At the confluence with Mansker Creek | *455 | *453
|  |  | At a point approximately 211 feet upstream of the confluence with Mansker Creek | *455 | *454
Maps available for inspection at Metropolitan Government of Nashville and Davidson County Public Works, 720 South 5th Street, Nashville, Tennessee.
Send comments to The Honorable William Purcell, Mayor of the Metropolitan Government of Nashville and Davidson County, 107 Metropolitan Courthouse, Nashville, Tennessee 37201.
Tennessee | Portland (City), Sumner County | Donoho Branch | Approximately 106 feet downstream of College Street | None | *794
|  |  | Approximately 0.3 mile upstream of State Route 52 | None | *805
|  | Portland Channel | Approximately 1,900 feet downstream of Victor Reiter Parkway | None | *787
|  |  | Approximately 0.5 mile upstream of Morningside Drive | None | *794
Maps available for inspection at the Portland City Hall, 100 South Russel Street, Portland, Tennessee.
Send comments to The Honorable Jim Calloway, Mayor of the City of Portland, City Hall, 100 South Russel Street, Portland, Tennessee 37148.
Tennessee | Sumner County (Unincorporated Areas) | Arterburn Branch | At the confluence with Honey Run Creek | None | *743
|  |  | Approximately 0.8 mile upstream of the confluence with Honey Run Creek | None | *769
|  | Jones Branch | Approximately 0.67 mile upstream of Tyree Springs Road | None | *804
|  |  | Approximately 0.69 mile upstream of Tyree Springs Road | None | *805
|  | Hogan Branch | At the confluence with Drakes Creek | *546 | *545
|  |  | Approximately 1.3 miles upstream of Hogan Branch Road | *621 | *620
|  | Drakes Creek | Approximately 1,200 feet upstream of Old Shiloh Road | *516 | *518
|  |  | Approximately 0.5 mile upstream of Shell Road | *563 | *562
|  | Honey Run Creek | Approximately 180 feet upstream of U.S. Route 31 West and State Route 41 | None | *714
|  |  | At the confluence of Jones Branch and Arterburn Branch | None | *743
|  | Station Camp Creek | Approximately 840 feet upstream of Long Hollow Pike | None | *490
|  |  | Approximately 1,060 feet upstream of Long Hollow Pike | None | *490
Maps available for inspection at Sumner County Building Planner's Office, 355 North Belvedere Drive, Room 102, Gallatin, Tennessee.
Send comments to Mr. Thomas Marlin, Sumner County Executive, 355 North Belvedere Drive, Room 102, Gallatin, Tennessee 37066.
Tennessee | White House (City), Sumner County | Arterburn Branch | At the confluence with Honey Run Creek | None | *743
|  |  | Approximately 0.8 mile upstream of the confluence with Honey Run Creek | None | *769
|  | Honey Run Creek | Approximately 450 feet downstream of U.S. Route 31 West | None | *712
|  |  | At the confluence of Jones Branch and Arterburn Branch | None | *743
Maps available for inspection at the White House Codes Department, 105 College Street, White House, Tennessee.
Send comments to The Honorable Billy Hobbs, Mayor of the City of White House, P.O. Drawer 69, White House, Tennessee 37188.

(Catalog of Federal Domestic Assistance No. 83.100, “Flood Insurance”)
Dated: January 29, 2002.
Robert F. Shea,
Acting Administrator, Federal Insurance and Mitigation Administration.

[FR Doc. 02-2662 Filed 2-4-02; 8:45 am]

BILLING CODE 6718-04-P